NATIONAL SCIENCE FOUNDATION

Advisory Committee for Social, Behavioral and Economic Sciences; Notice of Meeting

In accordance with the Federal Advisory Committee Act (Pub. L. 92-463, as Amended), the National Science Foundation announces the following meeting:

NAME: Advisory Committee for Social, Behavioral and Economic Sciences (#1171).

DATE/TIME: May 13, 2015; 9:00 a.m. to 5:00 p.m., May 14, 2015; 9:00 a.m. to 12:30 p.m.

PLACE: National Science Foundation, 4201 Wilson Boulevard, Stafford I, Room 110, Arlington, VA 22230.

TYPE OF MEETING: Open.

CONTACT PERSON: Dr. Deborah Olster, Office of the Assistant Director, Directorate for Social, Behavioral and Economic Sciences, National Science Foundation, 4201 Wilson Boulevard, Room 905, Arlington, Virginia 22230, 703-292-8700.

SUMMARY OF MINUTES: May be obtained from contact person listed above.

PURPOSE OF MEETING: To provide advice and recommendations to the National Science Foundation on major goals and policies pertaining to Social, Behavioral and Economic Sciences Directorate (SBE) programs and activities.

Agenda

Wednesday, May 13, 2015

SBE Directorate Update

NSF Public Access Plan: Today's Data, Tomorrow's Discoveries

Report from SBE AC Subcommittee on Replicability in Science

SBE 2020 Themes/ Rebuilding the Mosaic

National Center for Science and Engineering Statistics

Statistical Sciences at NSF (StatsNSF) Subcommittee Update

Science of Broadening Participation

Thursday, May 14, 2015

Meeting with NSF Leadership

Decision-Making under Uncertainty/Risk and Resilience

Agenda and Dates for Future Meetings, Assignments and Concluding Remarks

Dated: April 7, 2015.
Suzanne Plimpton,
Acting Committee Management Officer.

[FR Doc. 2015-08322 Filed 4-10-15; 8:45 am]

BILLING CODE 7555-01-P